DEPARTMENT OF AGRICULTURE

Food and Nutrition Service

7 CFR Part 253

[FNS-2009-0006]

RIN 0584-AD95

Food Distribution Program on Indian Reservations: Amendments Related to the Food, Conservation, and Energy Act of 2008; Approval of Information Collection Request

AGENCY: Food and Nutrition Service, USDA.

ACTION: Final rule; Notice of Approval of Information Collection Request (ICR).

SUMMARY: The final rule entitled Food Distribution Program on Indian Reservations: Amendments Related to the Food, Conservation, and Energy Act of 2008 was published on April 6, 2011. The Office of Management and Budget (OMB) cleared the associated information collection requirements (ICR) on December 20, 2011. This document announces approval of the ICR.

DATES: The ICR associated with the final rule published in the Federal Register on April 6, 2011, at 76 FR 18861, was approved by OMB on December 20, 2011, under OMB Control Number 0584-0293.

FOR FURTHER INFORMATION CONTACT: Dana Rasmussen, Chief, Policy Branch, Food Distribution Division, Food and Nutrition Service, USDA, 3101 Park Center Drive, Room 506, Alexandria, Virginia 22302, by phone at (703) 305-2662, or via email at Dana.Rasmussen@fns.usda.gov.

Dated: June 25, 2013.
Jeffrey J. Tribiano,
Acting Administrator, Food and Nutrition Service.

[FR Doc. 2013-15634 Filed 7-1-13; 8:45 am]

BILLING CODE 3410-30-P